DEPARTMENT OF ENERGY

Federal Energy Regulatory Commission

[Docket No. CP07-208-000]

Rockies Express Pipeline, LLC; Notice of Availability of the Final Environmental Impact Statement for the Proposed Rex East Project

April 11, 2008.

The staff of the Federal Energy Regulatory Commission (FERC or Commission) has prepared this final environmental impact statement (EIS) for the construction and operation of the natural gas pipeline facilities proposed by Rockies Express Pipeline LLC (Rockies Express) in the above-referenced docket. The Project facilities would be located in Wyoming, Nebraska, Missouri, Illinois, Indiana, and Ohio.

The final EIS was prepared to satisfy the requirements of the National Environmental Policy Act (NEPA). The U.S. Army Corps of Engineers, U.S. Fish and Wildlife Service, Natural Resources Conservation Service, and Illinois Department of Agriculture are cooperating agencies for the development of the EIS. A cooperating agency has jurisdiction by law or special expertise with respect to potential environmental impacts associated with the proposal and is involved in the NEPA analysis.

Based on the analysis included in the EIS, the FERC staff concludes that if the Project is constructed and operated in accordance with applicable laws and regulations, and the project sponsor's proposed mitigation, and the staff's additional mitigation recommendations, it would have mostly limited adverse environmental impacts and would be an environmentally acceptable action.

The Rockies Express (REX) East Project would consist of the construction and operation of approximately 639.1 miles of 42-inch-diameter natural gas pipeline and a total of 225,716 horsepower (hp) of new compression. The REX East Project would be part of the Rockies Express Pipeline System—a 1,679-mile natural gas pipeline system that would extend from Colorado to Ohio. The Project pipeline would deliver up to 1.8 billion cubic feet per day of gas to other interstate natural gas pipelines. The Project would provide access to an additional 19 inter- and intra-state natural gas pipelines at 13 interconnect points.

The EIS addresses the potential environmental effects of the construction and operation of the following natural gas pipeline facilities proposed by Rockies Express:

• 639.1 miles of 42-inch-diameter natural gas pipeline in Missouri, Illinois, Indiana, and Ohio;

• Seven new compressor stations (Mexico Compressor Station in Audrain County, Missouri; Blue Mound Compressor Station in Christian County, Illinois; Bainbridge Compressor Station in Putnam County, Indiana; Hamilton Compressor Station in Warren County, Ohio; Chandlersville Compressor Station in Muskingum County, Ohio; Arlington Compressor Station in Carbon County, Wyoming; and Bertrand Compressor Station in Phelps County, Nebraska; and

• 19 meter stations and associated interconnecting pipeline facilities at 13 locations along the proposed pipeline route and 42 mainline valves.

The final EIS has been placed in the public files of the FERC and is available for distribution and public inspection at: Federal Energy Regulatory Commission, Public Reference Room, 888 First Street, NE., Room 2A, Washington, DC 20426, (202) 502-8371.

Copies of the final EIS have been mailed to federal, state, and local agencies, public interest groups, individuals who have requested the final EIS, or provided comments; libraries and newspapers in the Project area; and parties to this proceeding. Hard copy versions of this EIS were mailed to those specifically requesting them, and all others received a CD-ROM. A limited number of hard copies and CD-ROMs are available from the Public Reference Room identified above.

Additional information about the Project is available from the Commission's Office of External Affairs, at 1-866-208-FERC (3372) or on the FERC Internet Web site (http://www.ferc.gov). Using the “Documents and Filings” tab, click on the “eLibrary link,” and select “General Search.” Enter the project docket number excluding the last three digits (i.e., CP07-208) in the “Docket Number” field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. To register for this service, go to the eSubscription link on the FERC Web site (http://www.ferc.gov/docs-filing/esubscription.asp).

Kimberly D. Bose,
Secretary.

[FR Doc. E8-8493 Filed 4-18-08; 8:45 am]

BILLING CODE 6717-01-P